DEPARTMENT OF JUSTICE

Notice of Lodging of Supplemental Consent Decree Under the Comprehensive Environmental Response, Compensation, and Liability Act

Notice is hereby given that on March 6, 2008, a proposed Supplemental Consent Decree in United States. v. NCR Corp. and Allfirst Financial Center, National Association, Civil Action No. 01-593-SLR, was lodged with the United States District Court for the District of Delaware.

In a civil action filed on August 31, 2001, under the Comprehensive Environmental Response, Compensation and Liability Act (“CERCLA”), the United States sought recovery of response costs from NCR Corporation and Allfirst Financial Center, National Association (predecessor to Manufacturers and Traders Trust Company), in connection with the NCR Corporation Superfund Site in Millsboro, Delaware (“the Site”). A Consent Decree resolving some of the claims in that civil action was entered by the Court on February 28, 2002. The Consent Decree reserved the right of the United States to seek further response costs from the defendants. Pursuant to that reservation of rights, the United States now seeks to recover response costs incurred since February 14, 2001. The proposed Supplemental Consent Decree lodged on March 6, 2008, resolves the liability of the defendants for response costs incurred by the United States in connection with the Site between February 14, 2001 and August 1, 2006, and requires defendants to pay $124,765 in reimbursement of response costs incurred through August 1, 2006. The Supplemental Consent Decree also requires defendants to pay response costs incurred since August 1, 2006 in accordance with the terms of the Supplemental Consent Decree.

The Department of Justice will receive comments relating to the proposed Supplemental Consent Decree for a period of thirty (30) days from the date of this publication. Please address comments to the Assistant Attorney General, Environment and Natural Resources Division, by e-mail to pubcomment-ees.enrd@usdoj.gov or regular mail to P.O. Box 7611, U.S. Department of Justice, Washington, D.C. 20044-7611, and refer to United States v. NCR Corp. and Allfirst Financial Center, National Association, D.J. Ref. 90-11-2-749/1.

The Supplemental Consent Decree may be examined at the Office of the United States Attorney for the District of Delaware, Nemours Building, Wilmington, DE 19801 and at U.S. EPA Region III, 1650 Arch Street, Philadelphia, PA 19103. During the public comment period, the Supplemental Consent Decree may also be examined on the following Department of Justice Web site, http://www.usdoj.gov/enrd/consent_decrees.html. A copy of the Supplemental Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. When requesting a copy from the Consent Decree Library, please enclose a check in the amount of $6.50 for the Supplemental Consent Decree only, or $29.50 for the Supplemental Consent Decree and appendices (25 cents per page reproduction cost) payable to the U.S. Treasury or, if by e-mail or fax, forward a check in that amount to the Consent Decree Library at the address above.

Robert Brook,
Assistant Chief, Environmental Enforcement Section, Environment and Natural Resources, Division.

[FR Doc. E8-4975 Filed 3-12-08; 8:45 am]

BILLING CODE 4410-15-P